ENVIRONMENTAL PROTECTION AGENCY

[EPA-HQ-OPP-2012-0019; FRL-9375-2]

Pesticide Emergency Exemptions; Agency Decisions and State and Federal Agency Crisis Declarations

AGENCY: Environmental Protection Agency (EPA).

ACTION: Notice.

SUMMARY: EPA has granted emergency exemptions under the Federal Insecticide, Fungicide, and Rodenticide Act (FIFRA) for use of pesticides as listed in this notice. The exemptions were granted during the period July 1, 2012 to September 30, 2012 to control unforeseen pest outbreaks.

FOR FURTHER INFORMATION CONTACT: See each emergency exemption for the name of a contact person. The following information applies to all contact persons: Team Leader, Emergency Response Team, Registration Division (7505P), Office of Pesticide Programs, Environmental Protection Agency, 1200 Pennsylvania Ave. NW., Washington, DC 20460-0001; telephone number: (703) 308-8050.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

If you have any questions regarding the applicability of this action to a particular entity, consult the person listed at the end of the emergency exemption.

B. How can I get copies of this document and other related information?

The docket for this action, identified by docket identification (ID) number EPA-HQ-OPP-2012-0019, is available at http://www.regulations.gov or at the Office of Pesticide Programs Regulatory Public Docket (OPP Docket) in the Environmental Protection Agency Docket Center (EPA/DC), EPA West Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. Background

EPA has granted emergency exemptions to the following State and Federal agencies. The emergency exemptions may take the following form: Crisis, public health, quarantine, or specific.

Under FIFRA section 18, EPA can authorize the use of a pesticide when emergency conditions exist. Authorizations (commonly called emergency exemptions) are granted to State and Federal agencies and are of four types:

1. A “specific exemption” authorizes use of a pesticide against specific pests on a limited acreage in a particular State. Most emergency exemptions are specific exemptions.

2. “Quarantine” and “public health” exemptions are emergency exemptions issued for quarantine or public health purposes. These are rarely requested.

3. A “crisis exemption” is initiated by a State or Federal agency (and is confirmed by EPA) when there is insufficient time to request and obtain EPA permission for use of a pesticide in an emergency.

EPA may deny an emergency exemption: If the State or Federal agency cannot demonstrate that an emergency exists, if the use poses unacceptable risks to the environment, or if EPA cannot reach a conclusion that the proposed pesticide use is likely to result in “a reasonable certainty of no harm” to human health, including exposure of residues of the pesticide to infants and children.

If the emergency use of the pesticide on a food or feed commodity would result in pesticide chemical residues, EPA establishes a time-limited tolerance meeting the “reasonable certainty of no harm standard” of the Federal Food, Drug, and Cosmetic Act (FFDCA).

In this document: EPA identifies the State or Federal agency granted the exemption, the type of exemption, the pesticide authorized and the pests, the crop or use for which authorized, number of acres (if applicable), and the duration of the exemption. EPA also gives the Federal Register citation for the time-limited tolerance, if any.

III. Emergency Exemptions

A. U.S. States and Territories

California

Department of Pesticide Regulation

Specific Exemption: EPA Authorized the use of spirotetramat on dry bulb onions to control thrips; July 12, 2012 to September 15, 2012. Contact: Keri Grinstead.

Delaware

Department of Agriculture

Specific Exemption: EPA authorized the use of bifenthrin on apple, peach, and nectarine to control brown marmorated stink bug; July 20, 2012 to October 15, 2012. Contact: Andrea Conrath.

Florida

Department of Agriculture and Consumer Services

Specific Exemption: EPA Authorized the use of spirotetramat on watercress to control melon/cotton aphids; July 27, 2012 to July 27, 2013. Contact: Keri Grinstead.

Specific Exemption: EPA authorized the use of streptomycin sulfate on grapefruit to control citrus canker; September 14, 2012 to September 1, 2013. As allowed by 40 CFR 166.24, the Agency determined that publication of a notice of receipt was appropriate since the use is for expansion of an antibiotic, and of potential public interest. A notice of receipt published in the Federal Register on November 9, 2011 (76 FR 217) (FRL-9325-8), to allow for a public comment period which ended on November 24, 2011. No substantial comments were received. The rationale for emergency approval of this use is that no suitable materials are available to control citrus canker in grapefruit and significant economic losses will occur if this disease is not controlled. Contact: Andrea Conrath.

Illinois

Department of Agriculture

Specific exemption: EPA authorized the use of hop beta acids in beehives to control varroa mite; September 5, 2012 to December 31, 2012. Contact: Stacey Groce.

Louisiana

Department of Agriculture and Forestry

Crisis Exemption: EPA concurred with Louisiana on the crisis use of imidacloprid on sugarcane to control West Indian Cane Fly; August 7, 2012 to August 22, 2012. Contact: Tawanda Maignan.

Maine

Department of Agriculture, Food and Rural Resources

Crisis Exemption: EPA concurred with Maine on the crisis use of malathion on blueberries to control spotted winged drosophila; August 13, 2012 to August 28, 2012. Contact: Debra Rate.

Specific exemption: EPA authorized the use of hop beta acids in beehives to control varroa mite; August 3, 2012 to December 31, 2012. Contact: Stacey Groce.

Maryland

Department of Agriculture

Specific Exemption: EPA authorized the use of bifenthrin on apple, peach, and nectarine to control brown marmorated stink bug; July 20, 2012 to October 15, 2012. Contact: Andrea Conrath.

Michigan

Department of Agriculture and Rural Development

Crisis Exemption: EPA concurred with Michigan on the crisis use of malathion on blueberries to control spotted winged drosophila; July 6, 2012. Contact: Debra Rate.

Specific exemption: EPA authorized the use of malathion on blueberries to control spotted wing drosophila; September 27, 2012 to September 30, 2012. Contact: Debra Rate.

New Jersey

Department of Environmental Protection

Crisis Exemption: EPA concurred with New Jersey on the crisis use of malathion on blueberries to control spotted wing drosophila; July 16, 2012 to July 30, 2012. Contact: Tawanda Maignan.

Specific Exemption: EPA authorized the use of bifenthrin on apple, peach, and nectarine to control brown marmorated stink bug; July 20, 2012 to October 15, 2012. Contact: Andrea Conrath.

Specific Exemption: EPA authorized the use of dinotefuran on stone fruit and pome fruit to control brown marmorated stink bug; July 11, 2012 to October 15, 2012. Contact: Andrea Conrath.

New Mexico

Department of Agriculture

Specific Exemption: EPA authorized the use of spirotetramat on dry bulb onions to control thrips; July 9, 2012 to October 31, 2012. Contact: Keri Grinstead.

North Carolina

Department of Agriculture and Consumer Services

Specific Exemption: EPA authorized the use of bifenthrin on apple, peach, and nectarine to control brown marmorated stink bug; July 20, 2012 to October 15, 2012. Contact: Andrea Conrath.

North Dakota

Department of Agriculture

Specific exemption: EPA authorized the use of hop beta acids in beehives to control varroa mite; July 18, 2012 to December 31, 2012. Contact: Stacey Groce.

Oregon

Department of Agriculture

Specific Exemption: EPA authorized the use of fipronil on turnip and rutabaga to control cabbage maggot; July 20, 2012 to September 30, 2012. In accordance with 40 CFR 166.24, a notice of receipt published in the Federal Register on May 1, 2012 (77 FR 84) (FRL- 9344-3), to allow for public comment since the request proposed a use which is IR-4-supported, has been requested in 5 or more previous years, and a petition for tolerance has not been submitted to the Agency. The public comment period ended on May 16, 2012. No substantial comments were received. The rationale for emergency approval of this use is that no suitable insecticides are available to control the cabbage maggot in turnip and rutabaga production and significant economic losses will occur if this pest is not controlled. Contact: Andrea Conrath.

Pennsylvania

Department of Agriculture

Specific Exemption: EPA authorized the use of bifenthrin on apple, peach, and nectarine to control brown marmorated stink bug; July 20, 2012 to October 15, 2012. Contact: Andrea Conrath.

Tennessee

Department of Agriculture and Regulatory Services

Specific Exemption: EPA authorized the use of spirotetramat on watercress to control melon/cotton aphids; July 27, 2013 to July 27, 2013. Contact: Keri Grinstead.

Virginia

Department of Agriculture and Consumer Services

Specific Exemption: EPA authorized the use of bifenthrin on apple, peach, and nectarine to control brown marmorated stink bug; July 20, 2012 to October 15, 2012. Contact: Andrea Conrath.

West Virginia

Department of Agriculture

Specific Exemption: EPA authorized the use of bifenthrin on apple, peach, and nectarine to control brown marmorated stink bug; July 20, 2012 to October 15, 2012. Contact: Andrea Conrath.

B. Federal Departments and Agencies

United States Department of Agriculture (USDA) Animal and Plant Health Inspection Service (APHIS)

Quarantine Exemption: EPA authorized the use of sodium hydroxide on clean, hard, non-porous areas potentially exposed to prions. September 12, 2012 to September 12, 2015; Contact: Keri Grinstead.

Quarantine Exemption: EPA authorized the use of sodium hypochlorite on clean, hard, non-porous areas potentially exposed to prions. September 12, 2012 to September 12, 2015; Contact: Keri Grinstead.

National Aeronautics and Space Administration (NASA)

Specific exemption: EPA authorized the use of ortho-phthalaldehyde (OPA) immobilized to a porous resin to treat the International Space Station internal active thermal control system (IATCS) coolant to control micro-organisms; July 13, 2012 to July 12, 2013. This request was granted because no registered alternatives met the criteria required for this use as well as OPA. Since the request proposed the use of a new, unregistered chemical, a notice of receipt published in the Federal Register on August 17, 2012 (77 FR 49793) (FRL-9358-4). Contact: Debra Rate.

List of Subjects

Environmental protection, Pesticides and pests.

Dated: January 7, 2013.
Lois Rossi,
Director, Registration Division, Office of Pesticide Programs.

[FR Doc. 2013-00841 Filed 1-15-13; 8:45 am]

BILLING CODE 6560-50-P